DEPARTMENT OF ENERGY

Federal Energy Regulatory Commission

Notice of Termination of Requirement To File Fourth Quarter 2015 Land Acquisition Reports

Take notice that sellers with market-based rate authority need not submit reports for the fourth quarter of 2015 documenting the acquisition of control of sites for new generation capacity development (land acquisition reports). Order No. 816,¹ which will become effective on January 28, 2016, terminates the requirement to submit such reports. Therefore, land acquisition reports for the fourth quarter of 2015, which would have been due on January 30, 2016, are not required.

¹ Refinements to Policies and Procedures for Market-Based Rates for Wholesale Sales of Electric Energy, Capacity and Ancillary Services by Public Utilities, Order No. 816, 80 FR 67,056 (Oct. 30, 2015), FERC Stats. & Regs. ¶ 31,374 (2015).

Dated: January 14, 2016.
Nathaniel J. Davis, Sr.,
Deputy Secretary.

[FR Doc. 2016-01117 Filed 1-20-16; 8:45 am]

BILLING CODE 6717-01-P